FEDERAL ELECTION COMMISSION

Sunshine Act Meeting

AGENCY: Federal Election Commission.

DATE AND TIME: Thursday, May 24, 2012 at 10:00 a.m.

PLACE: 999 E Street NW., Washington, DC (ninth floor).

STATUS: This meeting will be open to the public.

Items To Be Discussed

Correction and Approval of the Minutes for the Meeting of May 10, 2012.

Draft Advisory Opinion 2012-15: American Physical Therapy Association.

Draft Advisory Opinion 2012-17: Red Blue T, LLC, ArmourMedia, Inc., and m-Qube, Inc.

Draft Advisory Opinion 2012-20: Markwayne Mullin.

Audit Division Recommendation Memorandum on The Legacy Committee Political Action Committee (A09-22).

Audit Division Recommendation Memorandum on The National Right to Life Political Action Committee (NRLPAC) (A09-19).

Rulemaking Priorities for 2012.

Management and Administrative Matters.

Individuals who plan to attend and require special assistance, such as sign language interpretation or other reasonable accommodations, should contact Shawn Woodhead Werth, Secretary and Clerk, at (202) 694-1040, at least 72 hours prior to the meeting date.

PERSON TO CONTACT FOR INFORMATION: Judith Ingram, Press Officer, Telephone: (202) 694-1220.

Shawn Woodhead Werth,
Secretary and Clerk of the Commission.

[FR Doc. 2012-12370 Filed 5-18-12; 11:15 am]

BILLING CODE 6715-01-P